DEPARTMENT OF ENERGY

Federal Energy Regulatory Commission

Combined Notice of Filings #1

Take notice that the Commission received the following electric corporate filings:

Docket Numbers: EC24-19-000.

Applicants: NMRD Data Center II, LLC, NMRD Data Center III, LLC.

Description: Joint Application for Authorization Under Section 203 of the Federal Power Act of NMRD Data Center II, LLC, et al.

Filed Date: 11/13/23.

Accession Number: 20231113-5363.

Comment Date: 5 p.m. ET 12/4/23.

Take notice that the Commission received the following exempt wholesale generator filings:

Docket Numbers: EG24-28-000.

Applicants: Danish Fields Storage, LLC.

Description: Danish Fields Storage, LLC submits Notice of Self-Certification of Exempt Wholesale Generator Status.

Filed Date: 11/13/23.

Accession Number: 20231113-5281.

Comment Date: 5 p.m. ET 12/4/23.

Docket Numbers: EG24-29-000.

Applicants: Talen Conemaugh LLC.

Description: Talen Conemaugh LLC submits Notice of Self-Certification of Exempt Wholesale Generator Status.

Filed Date: 11/14/23.

Accession Number: 20231114-5119.

Comment Date: 5 p.m. ET 12/5/23.

Docket Numbers: EG24-30-000.

Applicants: Talen Keystone LLC.

Description: Talen Keystone LLC submits Notice of Self-Certification of Exempt Wholesale Generator Status.

Filed Date: 11/14/23.

Accession Number: 20231114-5120.

Comment Date: 5 p.m. ET 12/5/23.

Take notice that the Commission received the following Complaints and Compliance filings in EL Dockets:

Docket Numbers: EL24-14-000.

Applicants: City of Tacoma, Department of Public Utilities, Light Division v. California Independent System Operator Corporation.

Description: Complaint of City of Tacoma, Department of Public Utilities, Light Division v. California Independent System Operator Corporation.

Filed Date: 11/13/23.

Accession Number: 20231113-5361.

Comment Date: 5 p.m. ET 12/4/23.

Take notice that the Commission received the following electric rate filings:

Docket Numbers: ER21-579-001.

Applicants: Lanyard Power Holdings, LLC.

Description: Compliance filing: Lanyard Power Holdings, LLC—Informational Filing Re Transfer of Ownership to be effective N/A.

Filed Date: 11/13/23.

Accession Number: 20231113-5293.

Comment Date: 5 p.m. ET 12/4/23.

Docket Numbers: ER21-2367-001.

Applicants: Lanyard Power Holdings, LLC.

Description: Compliance filing: Lanyard Power Holdings, LLC—Informational Filing Re Transfer of Ownership to be effective N/A.

Filed Date: 11/13/23.

Accession Number: 20231113-5290.

Comment Date: 5 p.m. ET 12/4/23.

Docket Numbers: ER23-2407-000.

Applicants: Strauss Wind, LLC.

Description: Supplement to July 14, 2023 Strauss Wind, LLC tariff filing.

Filed Date: 11/9/23.

Accession Number: 20231109-5285.

Comment Date: 5 p.m. ET 11/21/23.

Docket Numbers: ER23-2635-001.

Applicants: PJM Interconnection, L.L.C.

Description: Tariff Amendment: Submission of Response to Deficiency Letter, Original ISA, SA No. 6571 to be effective 12/31/9998.

Filed Date: 11/13/23.

Accession Number: 20231113-5300.

Comment Date: 5 p.m. ET 12/4/23.

Docket Numbers: ER23-2673-002.

Applicants: Midcontinent Independent System Operator, Inc., Ameren Illinois Company.

Description: Tariff Amendment: Midcontinent Independent System Operator, Inc. submits tariff filing per 35.17(b): 2023-11-14_SA 4155 Ameren IL-Coles Wind 2nd Sub E&P (J2128) to be effective 8/22/2023.

Filed Date: 11/14/23.

Accession Number: 20231114-5028.

Comment Date: 5 p.m. ET 12/5/23.

Docket Numbers: ER24-387-000.

Applicants: SAGE Development Authority.

Description: Request for Limited and Prospective Waiver, et. al. of SAGE Development Authority.

Filed Date: 11/13/23.

Accession Number: 20231113-5280.

Comment Date: 5 p.m. ET 12/4/23.

Docket Numbers: ER24-388-000.

Applicants: Liberty Utilities (Granite State Electric) Corp.

Description: § 205(d) Rate Filing: Borderline Sales Rate Sheet Update November 2023 to be effective 6/1/2023.

Filed Date: 11/13/23.

Accession Number: 20231113-5279.

Comment Date: 5 p.m. ET 12/4/23.

Docket Numbers: ER24-389-000.

Applicants: Arizona Public Service Company.

Description: § 205(d) Rate Filing: Attachment Q & Schedule 1 Revisions to be effective 1/13/2024.

Filed Date: 11/13/23.

Accession Number: 20231113-5294.

Comment Date: 5 p.m. ET 12/4/23.

Docket Numbers: ER24-390-000.

Applicants: Edwards Calverton Battery Storage, LLC.

Description: Edwards Calverton Battery Storage, LLC submits Prospective Waiver Request of the requirement in Section 25.6.2.3.1 (ii)(2) of Attachment S of the NYISO OATT.

Filed Date: 11/9/23.

Accession Number: 20231109-5295.

Comment Date: 5 p.m. ET 11/30/23.

Docket Numbers: ER24-391-000.

Applicants: Niagara Mohawk Power Corporation, New York Independent System Operator, Inc.

Description: § 205(d) Rate Filing: Niagara Mohawk Power Corporation submits tariff filing per 35.13(a)(2)(iii: Niagara Mohawk 205: CRA between NMPC and New York Power Authority (SA2815) to be effective 11/2/2023.

Filed Date: 11/14/23.

Accession Number: 20231114-5021.

Comment Date: 5 p.m. ET 12/5/23.

Docket Numbers: ER24-392-000.

Applicants: Midcontinent Independent System Operator, Inc., American Transmission Company LLC.

Description: § 205(d) Rate Filing: Midcontinent Independent System Operator, Inc. submits tariff filing per 35.13(a)(2)(iii: 2023-11-14_SA 4192 ATC-DPC O&M to be effective 12/6/2023.

Filed Date: 11/14/23.

Accession Number: 20231114-5046.

Comment Date: 5 p.m. ET 12/5/23.

Docket Numbers: ER24-393-000.

Applicants: Arizona Public Service Company.

Description: § 205(d) Rate Filing: Service Agreement No. 413, Sun Valley 230kV #1 LGIA between APS and CAWCD to be effective 10/17/2023.

Filed Date: 11/14/23.

Accession Number: 20231114-5065.

Comment Date: 5 p.m. ET 12/5/23.

Docket Numbers: ER24-394-000.

Applicants: Arizona Public Service Company.

Description: § 205(d) Rate Filing: Service Agreement No. 414, Sun Valley 230kV #2 LGIA between APS and CAWCD to be effective 10/17/2023.

Filed Date: 11/14/23.

Accession Number: 20231114-5069.

Comment Date: 5 p.m. ET 12/5/23.

Docket Numbers: ER24-395-000.

Applicants: Arizona Public Service Company.

Description: § 205(d) Rate Filing: Service Agreement No. 415, Sun Valley 500kV LGIA between APS and CAWCD to be effective 10/17/2023.

Filed Date: 11/14/23.

Accession Number: 20231114-5072.

Comment Date: 5 p.m. ET 12/5/23.

Take notice that the Commission received the following electric securities filings:

Docket Numbers: ES24-18-000.

Applicants: ISO New England Inc.

Description: Application Under Section 204 of the Federal Power Act for Authorization to Issue Securities of ISO New England Inc.

Filed Date: 11/13/23.

Accession Number: 20231113-5362.

Comment Date: 5 p.m. ET 12/4/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 14, 2023.
Debbie-Anne A. Reese,
Deputy Secretary.

[FR Doc. 2023-25591 Filed 11-17-23; 8:45 am]

BILLING CODE 6717-01-P